DEPARTMENT OF AGRICULTURE

Farm Service Agency

Information Collection: Agricultural Foreign Investment Disclosure Act

AGENCY: Farm Service Agency, USDA.

ACTION: Notice; request for comments.

SUMMARY: In accordance with the Paperwork Reduction Act of 1995, the Farm Service Agency (FSA) is seeking comments from all interested individuals and organizations on the extension of a currently approved information collection associated with Agricultural Foreign Investment Disclosure Act of 1978 (AFIDA).

DATES: Comments on this notice must be received on or before May 30, 2006 to be assured consideration.

ADDRESSES: Comments concerning this notice should be addressed to Patricia A. Blevins, Agricultural Foreign Investment Specialist, Natural Resources Analysis Group, Economic and Policy Analysis Staff, USDA, FSA, STOP 0531, 1400 Independence Avenue, SW., Washington, DC 20250-0531, and to the Desk Officer for Agriculture, Office of Information and Regulatory Affairs, Office of Management and Budget, Washington, DC 20503. Copies of the information collection may be requested by writing to Patricia A. Blevins at the above address. Comments may also be submitted by e-mail to: patrica.blevins@wdc.usda.gov.

FOR FURTHER INFORMATION CONTACT: Patricia Blevins, Agricultural Foreign Investment Specialist, (202) 720-0604 and patrica.blevins@wdc.usda.gov.

SUPPLEMENTARY INFORMATION:

Title: Agricultural Foreign Investment Disclosure Act Report.

OMB Control Number: 0560-0097.

Expiration Date of Approval: November 30, 2006.

Type of Request: Extension of a currently approved information collection.

Abstract: AFIDA requires foreign persons who hold, acquire, or dispose of any interest in U.S. agricultural land to report the transactions to the FSA on the AFIDA report. The information collected is available to States. Also, although not required by law, the information collected from the AFIDA reports is used to prepare an annual report to Congress and the President concerning the effect of foreign investment upon family farms and rural communities so that Congress may review the annual report and decide if further regulatory action is required.

Estimate of Average Time to Respond: .4818 hours per response.

Type of Respondents: Foreign investors, corporate employees, attorneys or farm managers.

Estimated Number of Respondents: 4,375.

Estimated Number of Responses per Respondent: 1.

Estimated Number of Responses: 4,375.

Estimated Total Annual Burden on Respondents: 2,108 hours.

Comments are invited on: (a) Whether the collection of information is necessary for the proper performance of the functions of the agency, including whether the information will have practical utility; (b) the accuracy of the agency's estimate of burden, including the validity of the methodology and assumptions used; (c) ways to enhance the quality, utility and clarity of the information collected; or (d) ways to minimize the burden of the collection of the information on those who are to respond, including through the use of appropriate automated, electronic, mechanical, or other technological collection techniques or other forms of information technology.

All comments received in response to this notice, including names and addresses when provided, will be a matter of public record. Comments will be summarized and included in the submission for OMB approval.

Signed at Washington, DC, on March 23, 2006.
Teresa C. Lasseter,
Administrator, Farm Service Agency.

[FR Doc. E6-4542 Filed 3-28-06; 8:45 am]

BILLING CODE 3410-05-P